DEPARTMENT OF ENERGY

Federal Energy Regulatory Commission

[Docket No. RP00-408-000]

Ozark Gas Transmission, L.L.C. Notice of Proposed Changes in FERC Gas Tariff

November 2, 2000.

Take notice that October 27, 2000, Ozark Gas Transmission, L.L.C. (Ozark) tendered for filing as part of its FERC Gas Tariff, Original Volume No. 1, the following pro forma revised tariff sheets, to be effective on a date to be determined by the Commission pursuant to Order No. 637.

First Revised Sheet No. 106

Original Sheet No. 106B

Ozark also requested that it be permitted to withdraw the following pro forma tariff sheets previously filed in this proceeding:

First Revised Sheet No. 106

Original Sheet No. 106B

Ozark states that the purpose of this filing is to amend its proposed penalty revenue crediting mechanism in accordance with the terms of the Offer of Settlement in its Section 4 general rate case which was filed on October 27, 2000 in Docket No. RP00-257-000. Ozark further states that the Settlement requires it to propose in this proceeding a penalty revenue crediting mechanism whereby monthly actual penalty revenues will be allocated to non-offending firm shippers in proportion to their monthly fixed cost contribution to Ozark's revenue requirements, shippers incurring a penalty during a particular month will not be eligible to receive an allocation of penalty revenues for that month and shippers will receive allocated monthly penalty credits through annual refunds.

Ozark further states that it has served copies of this filing upon the company's jurisdictional customers and interested state commissions and all persons on the official service list for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR http://www.ferc.fed.us/efi/doorbell. htm.

David P. Boergers,
Secretary

[FR Doc. 00-28639 Filed 11-07-00; 8:45 am]

BILLING CODE 6717-01-M